FEDERAL TRADE COMMISSION

Sunshine Act Meeting Notice

AGENCY: Federal Trade Commission.

Time and Date: 2 p.m., Wednesday, March 10, 2004.

Place: Federal Trade Commission Building, Room 532, 600 Pennsylvania Avenue, NW., Washington, DC 20580.

STATUS: Part of this meeting will be open to the public. The rest of the meeting will be closed to the public.

Matters To Be Considered: Portion Open to Public: (1) Oral Argument in the matter of Union Oil Company of California, Docket 9305.

Portion Closed to the Public: (2) Executive Session to follow Oral Argument in Union Oil Company of California, Docket 9305.

FOR FURTHER INFORMATION CONTACT: Mitch Katz.

Office of Public Affairs: (202) 326-2180.

Recorded Message: (202) 326-2711.

Donald S. Clark,
Secretary, (202) 326-2514.

[FR Doc. 04-3376 Filed 2-11-04; 12:39 pm]

BILLING CODE 6750-01-M